EQUAL EMPLOYMENT OPPORTUNITY COMMISSION

Performance Review Board—Appointment of Members

AGENCY: U.S. Equal Employment Opportunity Commission (EEOC).

ACTION: Notice of performance review board appointments.

SUMMARY: This notice announces the appointment of those individuals who have been selected to serve as members of the Performance Review Board (PRB). The PRB is comprised of a Chairperson and career senior executives that meet annually to review and evaluate performance appraisal documents. The PRB provides a written recommendation to the appointing authority for final approval of each SES and SL performance rating, performance-based pay adjustment, and performance award. The PRB is advised by the Office of the Chief Human Capital Officer, Office of Legal Counsel, and Office for Civil Rights, Diversity and Inclusion to ensure compliance with laws and regulations. Designated members will serve a 12-month term.

DATES: The board membership is applicable beginning on November 1, 2023.

FOR FURTHER INFORMATION CONTACT: Cynthia G. Pierre, Chief Operating Officer, EEOC, 131 M Street NE, Washington, DC 20507, (202) 291-3260.

SUPPLEMENTARY INFORMATION: In accordance with 5 U.S.C. 4314(c)(4), the names and position of the EEOC PRB members are set forth below:

Mr. Carlton Hadden, Chair, Director, Office of Federal Operations, EEOC

Mr. Bradley Anderson, Director, Birmingham District, EEOC

Ms. Kimberly Essary, Deputy Chief Data Officer, EEOC

Ms. Gwendolyn Reams, Acting General Counsel, EEOC

Mr. Kevin Richardson, Chief Human Capital Officer, EEOC

Mr. Richard Toscano, Director, Equal Employment Opportunity Staff, U.S. Department of Justice

Ms. Jamie Williamson, Director, Philadelphia District, EEOC

By the direction of the Commission.
Cynthia G. Pierre,
Chief Operating Officer.

[FR Doc. 2023-19349 Filed 9-6-23; 8:45 am]

BILLING CODE 6570-01-P